BUREAU OF CONSUMER FINANCIAL PROTECTION

[Docket No. CFPB-2022-0025]

Agency Information Collection Activities: Comment Request

AGENCY: Bureau of Consumer Financial Protection.

ACTION: Notice and request for comment.

SUMMARY: In accordance with the Paperwork Reduction Act of 1995 (PRA), the Consumer Financial Protection Bureau (CFPB or Bureau) requests the extension of the Office of Management and Budget's (OMB's) approval of the existing information collection titled “Generic Information Collection Plan for Consumer Complaint and Information Collection System (Testing and Feedback)” approved under OMB Control Number 3170-0042.

DATES: Written comments are encouraged and must be received on or before May 20, 2022 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Documentation prepared in support of this information collection request is available at www.regulations.gov. Requests for additional information should be directed to Anthony May, Paperwork Reduction Act Officer, at (202) 841-0544, or email: CFPB_PRA@cfpb.gov. If you require this document in an alternative electronic format, please contact CFPB_Accessibility@cfpb.gov. Please do not submit comments to these email boxes.

SUPPLEMENTARY INFORMATION:

Title of Collection: Generic Information Collection Plan for Consumer Complaint and Information Collection System (Testing and Feedback).

OMB Control Number: 3170-0042.

Type of review: Extension of a currently approved information collection.

Affected Public: Individuals or households.

Estimated Number of Respondents: 655,000.

Estimated Total Annual Burden Hours: 110,833.

Abstract: The Bureau has undertaken a variety of service delivery-focused activities contemplated by the Dodd-Frank Wall Street Reform and Consumer Protection Act (Pub. L. 111-203). These activities (which include consumer complaint and inquiry processing, referral, and monitoring) involve several interrelated systems.¹ The streamlined process of the generic clearance will allow the Bureau to implement these systems efficiently in line with the Bureau's commitment to continuous improvement of its delivery of services through iterative testing and feedback collection.

¹ These interrelated systems include secure, web-based portals that allow consumers, companies, and agencies to access complaints and an online “Tell Your Story” feature that allows consumers to share feedback about their experiences in the consumer financial marketplace.

This is a routine request for OMB to extend its approval of the information collection currently approved under OMB Control Number 3170-0042. The Bureau is proposing to increase the number of web complaint respondents from 250,000 to 500,000. This estimate is based on recent data which showed how many more consumers now use the web intake process. Additionally, the Bureau has decreased the types of stakeholder feedback it may request from three lines items to one. The Bureau has also decreased the annual number of respondents regarding stakeholder feedback from 10,000 to 5,000. However, the average burden per intake had been increased from 10 minutes to 30 minutes due to longer projected engagements with the respondents.

Request for Comments: The Bureau published a 60-day Federal Register notice on 12/28/2021 (86 FR 73744) under Docket Number: CFPB-2021-0022. The Bureau is soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Anthony May,
Paperwork Reduction Act Officer, Consumer Financial Protection Bureau.

[FR Doc. 2022-08436 Filed 4-19-22; 8:45 am]

BILLING CODE 4810-AM-P